DEPARTMENT OF ENERGY

Federal Energy Regulatory Commission

[Project Nos. 14204-000, 14231-000]

Percheron Power, LLC, FFP Project 85, LLC; Notice of Competing Preliminary Permit Applications Accepted for Filing and Soliciting Comments, Motions To Intervene, and Competing Applications

On May 31, 2011, Percheron Power, LLC (Percheron Power), filed an application for a preliminary permit, pursuant to section 4(f) of the Federal Power Act (FPA), proposing to study the feasibility of the Scooteney Reservoir Inlet Water Power Project, to be located on the Potholes East Canal, which is an inlet structure to the Scooteney Reservoir, near Othello, Franklin County, Washington. Another permit application for the Scooteney Water Power Project, located at the same site, was filed by FFP Project 85, LLC (FFP), on July 18, 2011. Both of the proposed projects would utilize the existing Potholes East Canal, which is owned by the U.S. Bureau of Reclamation. The sole purpose of a preliminary permit, if issued, is to grant the permit holder priority to file a license application during the permit term. A preliminary permit does not authorize the permit holder to perform any land-disturbing activities or otherwise enter upon lands or waters owned by others without the owners' express permission.

The proposed Percheron Power project would consist of the following: (1) An approximately 500-foot-long intake structure installed on the Potholes East Canal to divert flow from the canal to the turbines, which would be 120 feet wide at the intersection with the canal and would narrow to 60 feet wide before entering the powerhouse, and would include a 120-foot-wide, 15-foot-high intake grate and a 60-foot-wide, 15-foot-high trash rack; (2) a approximately 80-foot-long, 30-foot-wide powerhouse containing four low-head turbine/generator units rated for approximately 350 kilowatts each (total capacity of 1,420 kilowatts) at an average head of 14 feet; (3) a 600-foot-long, 11-foot-high bypass weir, constructed in parallel to the west bank of the existing Potholes East Canal, to function as a project spillway; (4) a discharge canal returning flows from the powerhouse to the Potholes East Canal; (5) a 20-foot-long, 40-foot-wide substation at the powerhouse which will connect with the existing distribution line at the project site; and (6) appurtenant facilities. The estimated annual generation of the project would be 4.23 gigawatt-hours (GWh).

The proposed FFP project would consist of the following: (1) An approximately 40-foot-wide, 100-foot-long approach channel installed on the Potholes East Canal to divert flow from the canal to the turbines; (2) a approximately 125-foot-long, 40-foot-wide powerhouse containing one Kaplan turbine/generator unit rated at 2,500-kW at a hydraulic head of 13 feet; (3) a 120-foot-long, 50-foot-wide discharge canal returning flows from the powerhouse to the Potholes East Canal; (4) a 40-foot-long, 50-foot-wide substation at the powerhouse which will connect with the existing distribution line at the project site; and (5) appurtenant facilities. The estimated annual generation of the project would be 15 GWh.

Applicant Contact (Percheron Power): Mr. Jerry Straalsund, President, Percheron Power, LLC, 6855 W. Clearwater Ave., A101-260, Kennewick, WA 99336; e-mail: jls@percheronpower.com.

Applicant Contact (FFP): Ms. Ramya Swaminathan, Free Flow Power Corporation, 239 Causeway Street, Suite 300, Boston, MA 02114; phone: (978) 283-2822.

FERC Contact: Jennifer Harper, (202) 502-6136.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about these projects, including copies of the applications, can be viewed or printed on the “eLibrary” link of Commission's Web site at http://www.ferc.gov/docs-filing/elibrary.asp. Enter the docket numbers (P-14204-000 and P-14231-000) in the docket number field to access the documents. For assistance, contact FERC Online Support.

Dated: August 10, 2011.
Kimberly D. Bose,
Secretary.

[FR Doc. 2011-20889 Filed 8-16-11; 8:45 am]

BILLING CODE 6717-01-P